FEDERAL MINE SAFETY AND HEALTH REVIEW COMMISSION

Sunshine Act Meetings

September 7, 2000.

TIME AND DATE: 11 a.m., Thursday, September 14, 2000.

PLACE: Room 6005, 6th Floor, 1730 K Street, NW, Washington, DC.

STATUS: Closed [Pursuant to 5 U.S.C. § 552b(c)(10)].

MATTERS TO BE CONSIDERED: It was determined by a majority vote of the Commission that the Commission consider and act upon the following in closed session:

1. Disciplinary Proceeding, Docket No. D 2000-1.

TIME AND DATE: 2 p.m., Thursday, September 14, 2000.

PLACE: Room 6005, 6th Floor, 1730 K Street, NW., Washington, DC.

STATUS: Open.

MATTERS TO BE CONSIDERED: The Commission will consider and act upon the following:

1. Secretary of Labor on behalf of Noe v. J & C Mining, Docket No. KENT 99-248-D (Issues include whether the judge erred in concluding that J & C Mining did not constructively discharge a miner after he refused to transfer to the third shift).

Any person attending an open meeting who requires special accessibility features and/or auxiliary aids, such as sign language interpreters, must inform the Commission in advance of those needs. Subject to 29 CFR §§ 2706.150(a)(3) and 2706.160(d).

CONTACT PERSON FOR MORE INFO: Jean Ellen (202) 653-5629/(202) 708-9300 for TDD Relay/1-800-877-8339 for toll free.

Jean H. Ellen,
Chief Docket Clerk.

[FR Doc. 00-23617 Filed 9-11-00; 12:42 pm]

BILLING CODE 6735-01-M